DEPARTMENT OF THE INTERIOR

National Park Service

[NPS-WASO-NRNHL-23640; PPWOCRADI0, PCU00RP14.R50000]

National Register of Historic Places; Notification of Pending Nominations and Related Actions

AGENCY: National Park Service, Interior.

ACTION: Notice.

SUMMARY: The National Park Service is soliciting comments on the significance of properties nominated before June 17, 2017, for listing or related actions in the National Register of Historic Places.

DATES: Comments should be submitted by August 2, 2017.

ADDRESSES: Comments may be sent via U.S. Postal Service and all other carriers to the National Register of Historic Places, National Park Service, 1849 C St. NW., MS 7228, Washington, DC 20240.

SUPPLEMENTARY INFORMATION:

The properties listed in this notice are being considered for listing or related actions in the National Register of Historic Places. Nominations for their consideration were received by the National Park Service before June 17, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Mayfair Hotel, 115 E. 3rd St., Pomona, SG100001382

Mendocino County

Albion River Bridge, (Highway Bridges of California MPS), Mile markers 43.7-44.0 on CA 1, Albion, MP100001383

Placer County

Crabbe, Earl, Gymnasium, (Auburn, CA MPS), Agard St., Auburn, MP100001384

Sacramento County

Mohr and Yoerk Market, 1029 K St., Sacramento, SG100001385

FLORIDA

Alachua County

Stephens House, 19802 Old Bellamy Rd., Alachua, SG100001386

Duval County

Atlantic Coast Line Railroad Locomotive No. 1504, (Florida's Historic Railroad Resources MPS), 1000 West Bay St., Jacksonville, MP100001388

Memorial Park, Memorial Park Dr., Jacksonville, SG100001389

Jackson County

Sneads Community House and Old Pump, (Florida's New Deal Resources MPS), 8025 Old Spanish Trail, Sneads, MP100001390

MICHIGAN

Jackson County

Vinkle, Henry and Aurora (Walker), House, 371 W. Michigan Ave., Grass Lake, SG100001391

MONTANA

Lewis and Clark County

Montana Aeronautics Commission Operations Historic District, 2630 Airport Rd., Helena, SG100001392

NEBRASKA

Adams County

Hastings College, 710 N. Turner Ave., Hastings, SG100001393

Lancaster County

Eastridge Historic District, Generally bounded by L to A Sts., 56th & Cotner Blvd. to Sunrise & Mulder Drs., Lincoln, SG100001394

NEW JERSEY

Mercer County

Princeton Historic District (Boundary Increase), 62 Washington Rd., Princeton, BC100001395

Middlesex County

Middlesex Avenue—Woodwild Park Historic District, Middlesex, Oak, Linden, E. Chestnut, Maple, Elm, Highland & Hillside Aves., Library Place, Clarendon Ct., Pleasant Place, Borough of Metuchen, SG100001396

SOUTH DAKOTA

Brookings County

Mortimer Cabin, 20247 Oakwood Dr., Bruce vicinity, SG100001397

Fall River County

Colgan, Arthur and Ellen, House, 407 3rd St., Edgemont, SG100001398

Faulk County

Parker, C.W., Carousel No. 825, 109 9th Ave. S., Faulkton, SG100001399

Hand County

McWhorter, Port and Helen, House, 426 N. Broadway, Miller, SG100001400

Minnehaha County

Stadum—Green House, 2101 S. Pendar Ln., Sioux Falls, SG100001401

Moody County

First Presbyterian Church and Cemetery, 22712 SD 13, Flandreau vicinity, SG100001402

Stanley County

American Legion Community Hall, 115 Deadwood St., Fort Pierre, SG100001403

WISCONSIN

Rock County

Beloit Power Plant, 850 Pleasant St., Beloit, SG100001404

An additional documentation has been received for the following resource(s):

ARKANSAS

Monroe County

Moore-Jacobs House, 500 N. Main St., Clarendon, AD83001160

FLORIDA

Collier County

Naples Historic District, 9th Ave. S., 3rd St., 13th Ave. S, Gulf of Mexico, Naples, AD87002179

Authority: 36 CFR 60.13

Dated: June 23, 2017.
Christopher Hetzel,
Acting Chief, National Register of Historic Places/National Historic Landmarks Program.

[FR Doc. 2017-14990 Filed 7-17-17; 8:45 am]

BILLING CODE 4312-52-P